DEPARTMENT OF ENERGY

Federal Energy Regulatory Commission

[Docket No. CP12-449-000]

ONEOK Rockies Midstream, L.L.C.; Notice of Redesignation of Proceeding

On April 11, 2012, ONEOK Rockies Midstream, L.L.C. (ORM) filed a letter in the above-docketed proceeding informing the Commission of a name change related to the Natural Gas Act (NGA) Section 3 Authority and Presidential Permit issued June 16, 2000, in Docket No. CP96-684-001 ¹ to Bear Paw Energy, L.L.C. (BPE). Specifically, ORM states that its name was filed as an amendment to Delaware incorporation documents to replace BPE, effective September 21, 2011, and that no change in ownership has occurred.

¹ 91 FERC ¶ 61,286 (2000).

ORM states that the name change has no effect on its obligations and responsibilities under the Presidential Permit and Section 3 authority as provided by the June 16, 2000, order with respect to operation of the natural gas facilities at the international boundary near Portal, North Dakota. Accordingly, pursuant to Section 375.302(r) of the Commission's Rules and Regulations, notice is hereby given that this proceeding is being redesignated to reflect the permit holder's new name.

Dated: May 9, 2012.
Kimberly D. Bose,
Secretary.

[FR Doc. 2012-11739 Filed 5-15-12; 8:45 am]

BILLING CODE 6717-01-P